DEPARTMENT OF DEFENSE

Department of the Navy

[USN-2006-0048]

Privacy Act of 1974; System of Records

AGENCY: Department of the Navy, DoD.

ACTION: Notice to Add Systems of Records.

SUMMARY: The Department of the Navy proposes to add a system of records to its inventory of record systems subject to the Privacy Act of 1974 (5 U.S.C. 552a), as amended.

DATES: The proposed action will be effective on September 14, 2006 unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's notices for systems of records subject to the Privacy Act of 1974 (5 U.S.C. 552a), as amended, have been published in the Federal Register and are available: from the address above.

The proposed systems reports, as required by 5 U.S.C. 552a(r) of the Privacy Act, were submitted on August 3, 2006, to the House Committee on Government Reform, the Senate Committee on Homeland Security and Governmental Affairs, and the Office of Management and Budget (OMB) pursuant to paragraph 4c of Appendix I to OMB Circular No. A-130, ‘Federal Agency Responsibilities for Maintaining Records about Individuals,’ dated February 8, 1996, (February 20, 1996, 61 FR 6427).

Dated: August 8, 2006.
C.R. Choate,
Alternate OSD Federal Register Liaison Officer, Department of Defense.

NM05070-1

System name:

Library Patron File.

System location:

Organizational elements of the Department of the Navy. Official mailing addresses are published in the Standard Navy Distribution List that is available at http://doni.dps.dla.mil/andl.aspx.

Commander, U.S. Joint Forces Command, 1562 Mitacher Avenue, Suite 200, Norfolk, VA 23551-2488.

Commander, U.S. Pacific Command, P.O. Box 64028, Camp H.M. Smith, HI 96861-4028.

Categories of individuals covered by the system:

Authorized users of Navy, Marine Corps, U.S. Joint Forces Command, and U.S. Pacific Command library facilities.

Categories of records in the system:

The library patron file may contain the following information pertinent to each individual: Name, rank, Social Security Number; organization and organization address and phone number; home address and home phone number; names and ages of dependents; title of materials borrowed; date borrowed; date returned; and notation of monetary settlement if borrowed material was lost or damaged.

Authority for maintenance of the system:

5 U.S.C. 301, Departmental Regulation; 10 U.S.C. 5013, Secretary of the Navy; 10 U.S.C. 5041, Headquarters, Marine Corps; Pub. L. 106-554, Children's Internet Protection Act; and E.O. 9397 (SSN).

Purpose(s):

To identify individuals authorized to borrow library materials; to ensure that all library property is returned and individual's account is cleared, and to provide librarian useful information for selecting, ordering, and meeting user requirements.

To comply with the Children's Internet Protection Act and to provide authentication for borrowed electronic resources (e.g., e-books, e-journals, e-mail, chat rooms, other forms of direct electronic communications, videotapes, DVDs, and Music CDs).

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Navy's compilation of systems of records notices apply to this system.

Policies and practices for storing, retrieving, accessing, retaining, and disposing of records in the system:

Storage:

Paper and electronic files.

Retrievability:

Name, Social Security Number, or library account number.

Safeguards:

Library is locked when not in use. Password controlled system. File and element access based on predefined need-to-know. Physical access to terminals, terminal rooms, buildings and activities' grounds are controlled by locked terminals and rooms, guards, personnel screening and/or visitor registers.

Retention and disposal:

Records are destroyed when no longer needed to obtain and/or control library materials.

System manager(s) and address:

Commanding officer at the activity in question. Official mailing addresses are published in the Standard Navy Distribution List that is available at http://doni.daps.dla.mil/sndl.aspx.

Commander, U.S. Joint Forces Command, 1562 Mitscher Avenue, Suite 200, Norfolk, VA 23551-2488.

Commander, U.S. Pacific Command, P.O. Box 64028, Camp H.M. Smith, HI 96861-4028.

Notification procedures:

Individuals seeking to determine whether information about themselves is contained in this system should address written inquiries to the library in question. Official mailing addresses are published in the Standard Navy Distribution List that is available at http://doni.daps.dla.mil/sndl.aspx.

Written requests for information should contain the full name of the individual, Social Security Number and/or library account number, organization to which assigned when library utilized, and current address.

For personal visits the individual should be able to provide acceptable personal identification during normal hours of library operation.

Record access procedures:

Individual's seeking access to information about themselves contained in this system should address written inquiries to the library in question. Official mailing addresses are published in the Standard Navy Distribution List that is available at http://doni.daps.dla.mil/sndl.aspx.

Written requests for information should contain the full name of the individual, Social Security Number and/or library account number, organization to which assigned when library utilized, and current address.

For personal visits the individual should be able to provide acceptable personal identification during normal hours of library operation.

Contesting record procedures:

The Navy's rules for accessing records, and for contesting contents and appealing initial agency determinations are published in Secretary of the Navy Instruction 5211.5E; 32 CFR part 701; or may be obtained from the system manager.

Record source categories:

Individual's library staff; and Defense Enrollment Eligibility Reporting System (DEERS) database.

Exemptions claimed for the system:

None.

[FR Doc. 06-6908 Filed 8-14-06; 8:45 am]

BILLING CODE 5001-06-M